DEPARTMENT OF COMMERCE

Foreign-Trade Zones Board

[S-40-2024]

Approval of Subzone Status; Stoltzfus Logistics International, LLC; Atglen, Pennsylvania

On March 8, 2024, the Executive Secretary of the Foreign-Trade Zones (FTZ) Board docketed an application submitted by the FTZ Corp. of Southern Pennsylvania, grantee of FTZ 147, requesting subzone status subject to the existing activation limit of FTZ 147, on behalf of Stoltzfus Logistics International, LLC, in Atglen, Pennsylvania.

The application was processed in accordance with the FTZ Act and Regulations, including notice in the Federal Register inviting public comment (89 FR 19294, March 18, 2024). The FTZ staff examiner reviewed the application and determined that it meets the criteria for approval. Pursuant to the authority delegated to the FTZ Board Executive Secretary (15 CFR 400.36(f)), the application to establish Subzone 147H was approved on May 23, 2024, subject to the FTZ Act and the Board's regulations, including section 400.13, and further subject to FTZ 147's 2,000-acre activation limit.

Dated: May 23, 2024.
Elizabeth Whiteman,
Executive Secretary.

[FR Doc. 2024-11736 Filed 5-28-24; 8:45 am]

BILLING CODE 3510-DS-P